DEPARTMENT OF THE INTERIOR

Bureau of Land Management

[AZ030-2800-ER-00; AZA-28734]

Notice of Availability of a Draft Environmental Impact Statement for the Diamond Bar Road Improvement Project

AGENCY: Bureau of Land Management, Interior.

ACTION: Notice of Availability of a Draft Environmental Impact Statement for the Diamond Bar Road Improvement Project.

SUMMARY: The Bureau of Land Management, Kingman Field Office, Arizona, has prepared a draft environmental impact statement (EIS) to analyze the effect of a proposal to realign and improve 11 miles of the Diamond Bar Road across public lands to access the Hualapai Indian Reservation.

DATES: The comment period for the draft EIS will end 60 days from the date of the notice of filing in the Federal Register by the Environmental Protection Agency. Public meetings will be held in Meadview, Arizona, and in Dolan Springs, Arizona. The letter accompanying the draft EIS will give the date, time, and location of these meetings. BLM's Kingman Field Office can also provide this information.

ADDRESSES: Copies of the EIS may be obtained from the Bureau of Land Management, Kingman Field Office, 2475 Beverly Avenue, Kingman, Arizona 86401. If you wish to comment, please mail or hand deliver comments to the Kingman Field Office, 2475 Beverly Avenue, Kingman, Arizona 86401. The public may review the comments, including names and street addresses of respondents, at the above address from 7:30 am to 4:30 pm, Monday through Friday, except holidays. The comments may be published as part of the final EIS or other related documents. Individual respondents may request confidentiality. If you wish to withhold your name or street address from public review or disclosure under the Freedom of Information Act, you must state this request prominently at the beginning of your written comment. BLM will honor such requests to the extent allowed by law. The public may inspect in its entirety any submission from organizations or businesses or from representatives or officials of organizations or businesses.

FOR FURTHER INFORMATION CONTACT: Don McClure, phone: (520) 692-4400; e-mail, don_mcclure@blm.gov.; address, BLM, Kingman Field Office, 2475 Beverly Ave., Kingman, Arizona 86401.

SUPPLEMENTARY INFORMATION: Diamond Bar Road provides access to Grand Canyon West, mainly for commercial and private vehicles originating from Las Vegas. Grand Canyon West is a development on the Hualapai Indian Reservation near the rim of the Grand Canyon. This development now consists of an airport and terminal building, a food service facility, restrooms, and a permits office. Implementing the 1994 Master Plan for Grand Canyon West is expected to increase the number of visitors up to sixfold over a 10-year period. This increase would greatly increase the number of vehicles on Diamond Bar Road. The proposed road improvement would accommodate this increased volume by providing a roadway designed for up to 2,400 vehicles per day.

Management concerns that have been addressed in the draft EIS include impacts on vegetation, visual quality, recreation, cultural resources, socioeconomic conditions, public safety, and the Joshua Tree Forest Area of Critical Environmental Concern. Studies conducted include a native plant inventory, biological evaluation, cultural resource survey, traffic study, and visual impact analysis. Tribal consultation is ongoing under Section 106 of the National Historic Preservation Act of 1966, as amended. The EIS has been prepared by an interdisciplinary team of resource specialists in vegetation (including salvage), wildlife, visual quality, archaeological and traditional cultural resources, soils, range management, realty, and roadway design.

Dated: September 19, 2001.
Willie R. Taylor,
Director, Office of Environmental, Policy and Compliance.

[FR Doc. 01-24943 Filed 10-25-01; 8:45 am]

BILLING CODE 4310-32-P